DEPARTMENT OF LABOR

Employment and Training Administration

Proposed Information Collection Request Submitted for Public Comment and Recommendations

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. ETA is soliciting comments on a new data collection for the High Growth Job Training Initiative (HGJTI) and Community-Based Job Training (CBJT) programs. A copy of the proposed information collection request (ICR) can be obtained by contacting the office listed in the Addressee section of this notice or at this Web site: http://www.doleta.gov/OMBCN/OMBControlNumber.cfm

DATES: Written comments must be submitted to the office listed in the Addressee section on or before July 30, 2007.

ADDRESSES: Ms. Jennifer McNelly, Business Relations Group, Office of Workforce Investment, Employment and Training Administration, U.S. Department of Labor, Room N-4643, 200 Constitution Ave., NW., Washington, DC 20210. Phone (202) 693-3949 (this is not a toll-free number). Fax (202) 693-3890 or e-mail businessrelations@dol.gov.

SUPPLEMENTARY INFORMATION:

I. Background

Grantees that are awarded High Growth Job Training Initiative (HGJTI) grants and the Community-Based Job Training Grants (CBJTG) will be required to submit standardized quarterly reports summarizing the number and types of participants served by grantees, the number of exiters, the number of participants engaged in training activities, and participant outcomes. These outcomes include the number of participants who received a degree or certificate, who were placed in employment, and who were placed in training-related employment. In addition, ETA will require grantees to submit records of program exiters on a quarterly basis. These records will help ETA compute the Office of Management and Budget's (OMB) common job training and employment performance measures, gauge the effects of the HGJTI and CBJTG grants, identify grantees that could serve as useful models, and target technical assistance appropriately.

The HGJTI and CBJTG reporting and record keeping requirements are consistent with the President's Management Agenda to improve the management and performance of the Federal government and OMB's common performance measures. The measures are applied to certain Federally funded employment and training programs with similar strategic goals, including the HGJTI and CBJTG programs. These common performance measures enhance the government's ability to assess the effectiveness of the workforce investment system as a whole, including its performance in serving people who face significant barriers to employment. By minimizing the differences in reporting and performance requirements across programs, common performance measures facilitate the integration of service delivery and break down barriers to coordination among programs. Common performance measures also reduce the reporting burden for states and grantees, by providing consistent performance measurement definitions and methodologies across programs.

The common job training and employment measures are, therefore, a key component of the HGJTI and CBJTG performance accountability system, because they permit the core purposes of the workforce system to be described in a similar manner.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Suggest how to enhance the quality, utility, and clarity of the information to be collected; and

• Suggest how to minimize the burden of the collection of information on those who are to respond, including through the use of appropriate automated, electronic, mechanical, or other technological collection techniques or other forms of information technology, e.g., permitting electronic submissions of responses.

III. Current Actions

Type of Review: New.

Agency: Department of Labor, Employment and Training Administration.

Title: High Growth and Community-Based Job Training Grants: General Quarterly Reporting Forms & Instructions.

OMB Number: 1205-0NEW.

Agency Number(s): Form ETA-9134.

Recordkeeping: 3 Years.

Affected Public: Grantees and program participants.

Cite/Reference/Form: Workforce Investment Act of 1998 and the American Competitiveness in the Twenty-first Century Act of 2000.

Type of Response: Mandatory.

Frequency: Quarterly.

Total Respondents: 272 Grantees.

Total Annual Responses: 2,176 submissions annually—Each grantee submits a file of program exiter records and a summary report each quarter, for a total of eight submissions each year per grantee.

Estimated Total Burden Hours: 53,464 (see table for details).

Form/activity | Annual national burden (hours) | Total respondents | Average annual hours per respondent
Participant Data Collection | 23,000 | 272 grantees | 85
Quarterly Performance Report | 30,464 | 272 grantees | 112
Total | 53,464 |  | 197

Average Response Time: 197 hours per grantee each year.

Total Burden Cost (capital/startup): $0.

Total Burden Cost (operating/maintaining): $0.

Comments submitted in response to this comment request will be summarized and/or included in the request for Office of Management and Budget approval of the information collection request; they will also become a matter of public record.

Dated: May 24, 2007.
Emily Stover DeRocco,
Assistant Secretary, Employment and Training Administration.

[FR Doc. E7-10353 Filed 5-29-07; 8:45 am]

BILLING CODE 4510-FN-P